DEPARTMENT OF ENERGY

National Energy Technology Laboratory

Notice of Availability of a Funding Opportunity Announcement

AGENCY: National Energy Technology Laboratory, Department of Energy (DOE).

ACTION: Notice of availability of a funding opportunity announcement.

SUMMARY: Notice is hereby given of the intent to issue Funding Opportunity Announcement No. DE-PS26-04NT42113 entitled Waste Heat Recovery and Utilization Research and Development for Passenger Vehicle and Light/Heavy Duty Truck Applications. The Department of Energy (DOE), National Energy Technology Laboratory (NETL), on behalf of the Office of Energy Efficiency and Renewable Energy (EERE), announces that it intends to conduct a competitive funding opportunity announcement. EERE's Office of FreedomCAR and Vehicle Technologies (OFCVT) is seeking applications for cost-shared research and development (R&D) in two topical areas to improve the efficiency of internal combustion engines while meeting emissions regulations. The intent of this solicitation is to fund projects that will take their technology to full scale for characterization and evaluation on multi-cylinder engines or equivalent experimental rigs by the end of the period of performance. Fundamental research will be considered for funding under this solicitation when it is focused on a major impediment to a project's progress.

DATES: The funding opportunity announcement will be available on the “Industry Interactive Procurement System” (IIPS) Web page located at http://e-center.doe.gov on or about March 26, 2004. Applicants can obtain access to the funding opportunity announcement from the address above or through DOE/NETL's Web site at http://www.netl.doe.gov/business.

Questions and comments regarding the content of the announcement should be submitted through the “Submit Question” feature of IIPS at http://e-center.doe.gov. Locate the announcement on IIPS and then click on the “Submit Question” button. You will receive an electronic notification that your question has been answered. Responses to questions may be viewed through the “View Questions” feature. If no questions have been answered, a statement to that effect will appear. You should periodically check “View Questions” for new questions and answers.

FOR FURTHER INFORMATION CONTACT: Theresa S. Hafer, MS I07, U.S. Department of Energy, National Energy Technology Laboratory, P.O. Box 880, 3610 Collins Ferry Road, E-mail Address: theresa.hafer@netl.doe.gov, Telephone Number: (304) 285-4039.

SUPPLEMENTARY INFORMATION: The objective of this funding opportunity announcement is to provide financial support to improve the efficiency of internal combustion engines for light- and heavy-duty engines through technological advances in combustion and waste heat recovery. This funding opportunity announcement will address the following two topical areas: 1) Direct Energy Conversion from Waste Heat Recovery; and 2) Heating/Cooling Devices Based on Waste Heat Recovery. DOE anticipates awarding 3 to 6 cost sharing cooperative agreements across the two topical areas. Approximately $12 million to $17 million of federal funding is anticipated for awards under this program over multiple fiscal years. Awards under both topical areas will require 25% cost share.

Once released, the funding opportunity announcement will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The funding opportunity announcement will only be made available in IIPS, no hard (paper) copies of the funding opportunity announcement and related documents will be made available. Telephone requests, written requests, E-mail requests, or facsimile requests for a copy of the funding opportunity announcement will not be accepted and/or honored. Applications must be prepared and submitted in accordance with the instructions and forms contained in the announcement. The actual funding opportunity announcement document will allow for requests for explanation and/or interpretation.

Issued in Morgantown, WV on March 9, 2004.
Dale A. Siciliano,
Director, Acquisition and Assistance Division.

[FR Doc. 04-6709 Filed 3-24-04; 8:45 am]

BILLING CODE 6450-01-P